NUCLEAR REGULATORY COMMISSION

NRC Coordination Meeting With Standards Development Organizations

AGENCY: Nuclear Regulatory Commission.

ACTION: Notice of Meeting.

SUMMARY: The NRC will host a coordination meeting with key standards development organizations (SDOs) and other stakeholders. These meetings have been held approximately semi-annually as part of the NRC's commitment to utilize consensus standards to increase the involvement of licensees and others in the NRC's regulatory development process. This is consistent with the provisions of Public Law (Pub. L.) 104-113, the National Technology and Transfer Act of 1995, and Office of Management and Budget (OMB) Circular A-119, “Federal Participation in the Development and Use of Voluntary Consensus Standards and Conformity Assessment.” The primary purpose of these meetings is to foster better communication between SDOs' and NRC regarding standards development and their use. This notice provides the date and agenda for the next meeting.

DATES: January 17, 2001—The meeting will begin at 1:00 p.m. and will last approximately four hours. Attendees should enter the One White Flint North lobby by 12:45 p.m. to complete the required badging process.

Location: U.S. Nuclear Regulatory Commission Headquarters, One White Flint North, 11555 Rockville Pike, Room O-4-B4, Rockville, Maryland 20852-2738.

Contact: Wallace E. Norris, USNRC, Telephone: (301) 415-6796; Fax: (301) 415-5074; Internet: wen@nrc.gov.

Attendance: This meeting is open to the general public. All individuals planning to attend, including SDO representatives, are requested to preregister with Mr. Norris by telephone or e-mail and provide their name, affiliation, phone number, and e-mail address.

Program: The purpose of the meeting is to foster better communication between SDOs and NRC regarding standards development and use. By holding periodic coordination meetings, the SDOs will be able to describe their on-going and planned activities, and the NRC will be able to discuss activities and issues related to specific standards that are being developed or revised to meet its regulatory needs. The meeting will be coordinated by the NRC Standards Executive.

Among the topics to be discussed are:

NRC standards needs

Status of on-going SDO efforts

ANS presentation regarding the possible development of three standards:

Risk-based fire

Component reliability

Non-reactor facility PRA

Verifying accuracy of SDO and NRC rosters

Dated in Rockville, Maryland this 29th day of December, 2000.
For the Nuclear Regulatory Commission,
Michael E. Mayfield,
NRC Standards Executive.

[FR Doc. 01-358 Filed 1-4-01; 8:45 am]

BILLING CODE 7590-01-P